DEPARTMENT OF ENERGY

10 CFR Part 431

[Docket No. EERE-2010-BT-STD-0043]

RIN 1904-AC36

Energy Conservation Program: Public Meeting and Availability of the Framework Document for High-Intensity Discharge Lamps

AGENCY: Office of Energy Efficiency and Renewable Energy, Department of Energy.

ACTION: Notice of public meeting and availability of the Framework Document.

SUMMARY: The U.S. Department of Energy (DOE) is initiating the rulemaking and data collection process to consider establishing energy conservation standards for high-intensity discharge (HID) lamps. Accordingly, DOE will hold a public meeting to discuss and receive comments on its planned analytical approach and the issues it will address in this rulemaking proceeding. DOE welcomes written comments from the public on this rulemaking. To inform stakeholders and to facilitate this process, DOE has prepared a framework document which details the analytical approach and identifies several issues on which DOE is particularly interested in receiving comment. The framework document is posted at: http://www1.eere.energy.gov/buildings/appliance_standards/commercial/high_intensity_discharge_lamps.html.

DATES: The Department will hold a public meeting on March 29, 2012, from 9 a.m. to 4 p.m. in Washington, DC. Additionally, DOE plans to allow for participation in the public meeting via webinar. Any person requesting to speak at the public meeting should submit such request along with a signed original and an electronic copy of the statement to be given at the public meeting before 4 p.m., March 16, 2012. Written comments on the framework document are welcome, especially following the public meeting, and should be submitted by April 5, 2012.

ADDRESSES: The public meeting will be held at the U.S. Department of Energy, Forrestal Building, Room 8E-089, 1000 Independence Avenue SW, Washington, DC 20585-0121. Please note that foreign nationals participating in the public meeting are subject to advance security screening procedures. If a foreign national wishes to participate in the public meeting, please inform DOE of this fact as soon as possible by contacting Ms. Brenda Edwards at (202) 586-2945, so that the necessary procedures can be completed. Please also note that those wishing to bring laptops to the meeting will be required to obtain a property pass. Visitors should avoid bringing laptops, or allow an extra 45 minutes.

Interested parties may submit comments, identified by docket number EERE-2010-BT-STD-0043 and/or Regulation Identifier Number (RIN) 1904-AC36, by any of the following methods:

• Federal eRulemaking Portal: www.regulations.gov. Follow the instructions for submitting comments.

• Email: HIDLamps-2010-STD-0043@ee.doe.gov. Include EERE-2010-BT-STD-0043 and/or RIN 1904-AC36 in the subject line of the message.

• Mail: Ms. Brenda Edwards, U.S. Department of Energy, Building Technologies Program, Mailstop EE-2J, Framework Document for High-Intensity Discharge Lamps, EERE-2010-BT-STD-0043 and/or RIN 1904-AC36, 1000 Independence Avenue SW., Washington, DC 20585-0121. Please submit one signed paper original.

• Hand Delivery/Courier: Ms. Brenda Edwards, U.S. Department of Energy, Building Technologies Program, Sixth Floor, 950 L'Enfant Plaza SW., Washington, DC 20024. Please submit one signed paper original.

Instructions: All submissions received must include the agency name and docket number or RIN for this rulemaking.

Docket: The docket for this rulemaking is available for review at www.regulations.gov, and will include Federal Register notices, framework documents, public meeting attendee lists and transcripts, comments, and other supporting documents/materials. All documents in the docket are listed in the www.regulations.gov index. Not all documents listed in the index may be publicly available, however, such as information that is exempt from public disclosure.

A link to the docket Web page for this notice can be found at: http://www1.eere.energy.gov/buildings/appliance_standards/commercial/high_intensity_discharge_lamps.html. The regulations.gov Web page contains instructions on how to access all documents, including public comments, in the docket.

FOR FURTHER INFORMATION CONTACT: Ms. Lucy deButts, U.S. Department of Energy, Office of Energy Efficiency and Renewable Energy, Building Technologies, EE-2J, 1000 Independence Avenue SW., Washington, DC 20585-0121. Telephone: (202) 287-1604. Email: lucy.debutts@ee.doe.gov.

Ms. Elizabeth Kohl, U.S. Department of Energy, Office of the General Counsel, GC-71, 1000 Independence Avenue SW., Washington, DC 20585-0121. Telephone: (202) 586-7796. Email: elizabeth.kohl@hq.doe.gov.

For information on how to submit or review public comments and on how to participate in the public meeting, contact Ms. Brenda Edwards, U.S. Department of Energy, Office of Energy Efficiency and Renewable Energy, Building Technologies Program, EE-2J, 1000 Independence Avenue SW., Washington, DC, 20585-0121. Telephone (202) 586-2945. Email: brenda.edwards@ee.doe.gov.

SUPPLEMENTARY INFORMATION: Title III of Energy Policy and Conservation Act (EPCA) (42 U.S.C. 6291, et seq.; EPCA or “the Act”) sets forth a variety of provisions designed to improve energy efficiency. (All references to EPCA refer to the statute as amended through the Energy Independence and Security Act of 2007 (EISA 2007), Public Law 110-140 (Dec. 19, 2007).) Under EPCA, this program consists essentially of four parts: (1) Testing; (2) labeling; (3) Federal energy conservation standards; and (4) certification, compliance, and enforcement. Part B of Title III (42 U.S.C. 6291-6309) established the “Energy Conservation Program for Consumer Products Other Than Automobiles.” Part C of title III (42 U.S.C. 6311-6317), establishes an energy conservation program for certain industrial and commercial equipment.¹ Although HID lamps are defined in 42 U.S.C. 6291(46), DOE is required to set standards for HID lamps in 42 U.S.C. 6317(a)(1). Therefore, DOE has determined that the provisions of Part C are applicable to HID lamps.

¹ For editorial reasons, Parts B and C were re-designated as Parts A and A-1 on codification in the U.S. Code.

DOE published a positive final determination for specified HID lamps on July 1, 2010. 75 FR 37975. Pursuant to the positive final determination, DOE must establish testing requirements for the HID lamps specified in the determination. (42 U.S.C. 6317(a)(1)) As directed by EPCA, DOE must complete the HID lamps test procedure final rule within 30 months of the completion of the final determination (by January 1, 2013). DOE recently published a notice of proposed rulemaking (NOPR) for the HID lamp test procedures. 76 FR 77914 (December 15, 2011).

DOE must also complete the HID lamps energy conservation standards rulemaking within 18 months of the publication of the HID lamps test procedure final rule (by July 1, 2014). (42 U.S.C. 6317(b)) During the standards rulemaking, DOE will decide whether and at what level(s) to promulgate energy conservation standards. The decision, which will incorporate public participation, will be based on consideration of the technological feasibility, economic justification, and energy savings of specific potential standard levels as required by EPCA. (See, e.g., 42 U.S.C. 6295(o)-(p))

DOE has prepared a framework document to explain the issues, analyses, and processes it anticipates using for the development of potential energy conservation standards for HID lamps. Interested parties may obtain the framework document from DOE's Web site (http://www1.eere.energy.gov/buildings/appliance_standards/commercial/high_intensity_discharge_lamps.html). DOE will hold a public meeting in Washington, DC on the date specified in the DATES section to discuss the analyses presented and issues identified in the framework document prepared for the development of potential HID lamp energy conservation standards. At the public meeting, the Department will make a presentation, invite discussion on the rulemaking process as it applies to the covered products, and solicit comments, data, and information from participants and other interested parties. Participants can also attend the public meeting via webinar. Registration information, participant instructions, and information about the capabilities available to webinar participants will be published on the following Web site: https://www1.gotomeeting.com/register/221154352. Participants are responsible for ensuring their computer systems are compatible with the webinar software. The Department encourages those who wish to participate in the public meeting to obtain the framework document and to be prepared to discuss its contents.

Public meeting participants need not limit their comments to the issues identified in the framework document. The Department is also interested in receiving views concerning other relevant issues that participants believe would affect energy conservation standards for this equipment or that DOE should address in the NOPR. Furthermore, the Department welcomes all interested parties, regardless of whether they participate in the public meeting, to submit in writing by the date specified in the DATES section, comments and information on matters addressed in the framework document and on other matters relevant to consideration of standards for HID lamps. At this time, DOE is tentatively considering setting standards based on the information included in the framework document. DOE will consider modifications to its approach based on the data and comments received in response to the framework document and public meeting.

The public meeting will be conducted in an informal, facilitated, conference style. There shall be no discussion of proprietary information, costs or prices, company market shares, or other commercial matters regulated by U.S. antitrust laws. A court reporter will record the proceedings of the public meeting, after which a transcript will be made available on DOE's Web site at http://www1.eere.energy.gov/buildings/appliance_standards/commercial/high_intensity_discharge_lamps.html.

After the public meeting and the close of the comment period on the framework document, DOE will collect data, conduct the analyses as discussed in the framework document and at the public meeting, and review the comments received.

DOE considers public participation to be a very important part of the process for setting energy conservation standards. DOE actively encourages the participation and interaction of the public during the comment period in each stage of the rulemaking process. Beginning with the framework document, and during each subsequent public meeting and comment period, interactions with and between members of the public provide a balanced discussion of the issues to assist DOE in the standards rulemaking process. Accordingly, anyone who would like to participate in the public meeting, receive meeting materials, or be added to the DOE mailing list to receive future notices and information regarding this rulemaking on HID lamps should contact Ms. Brenda Edwards at (202) 586-2945, or via email at: Brenda.Edwards@ee.doe.gov.

Issued in Washington, DC, on February 21, 2012.
Kathleen B. Hogan,
Deputy Assistant Secretary for Energy Efficiency, Energy Efficiency and Renewable Energy.

[FR Doc. 2012-4639 Filed 2-27-12; 8:45 am]

BILLING CODE 6450-01-P